DEPARTMENT OF ENERGY

Federal Energy Regulatory Commission

[Docket No. RP97-431-000]

Natural Gas Pipeline Company of America; Notice of Rescheduling of Conference

February 15, 2000.

Take notice that the conference in the above-captioned proceeding has been rescheduled for Thursday, March 2, 2000, beginning at 10:00 am, in a room to be designated at the offices of the Federal Energy Regulatory Commission, 888 First Street, NE, Washington DC 20426.

All interested parties are permitted to attend.

David P. Boergers,
Secretary.

[FR Doc. 00-4088 Filed 2-18-00; 8:45 am]

BILLING CODE 6717-01-M